FEDERAL COMMUNICATIONS COMMISSION

Federal Advisory Committee Act; Technological Advisory Council

AGENCY: Federal Communications Commission.

ACTION: Notice of charter re-establishment.

SUMMARY: The Federal Communications Commission (Commission) hereby announces that the charter of the Technological Advisory Council (hereinafter Committee) has been re-established pursuant to the Federal Advisory Committee Act (FACA) and in accordance with the Committee Management Secretariat, General Services Administration.

FOR FURTHER INFORMATION CONTACT: Michael Ha, Chief, Policy and Rules Division, 202-418-2099; michael.ha@fcc.gov.

SUPPLEMENTARY INFORMATION: Following consultation with the General Services Administration the Commission intends to re-establish the charter on or before September 7, 2021 and provide the Committee with authorization to operate for two years from the effective date.

Technology is continually evolving, offering new opportunities to circumvent the challenges of radio spectrum scarcity and interference and to foster the growth of ubiquitous, high-speed, low-latency connectivity. This kind of technical innovation is fundamental to the economic prosperity and national security of the United States. In the age of ever-faster technical development, maintaining the United States' leadership in high priority emerging technologies will require careful planning and execution. The Commission must stay atop of new developments to ensure that the nation can continue to turn scientific research into usable communications technologies swiftly and efficiently.

The Committee provides technical advice and makes recommendations to the Commission on issues and questions presented to it by the Commission. The Committee will focus on key issues affecting the development and deployment of emerging communications technologies to spur opportunities for innovation, competition, adoption, greater efficiencies, job creation, and other national priorities. The Committee will address questions referred to it through the Designated Federal Officer by the FCC Chair, the Chief of the FCC Office of Engineering and Technology, or the FCC Chief Technology Officer. The questions referred to the Committee will be directed to technological and technical issues in the field of communications.

The Committee is organized under, and operates in accordance with, the provisions of the FACA. The Committee will be solely advisory in nature. Consistent with FACA and its requirements, each meeting of the Committee will be open to the public unless otherwise noticed. Records will be maintained of each meeting and made available for public inspection. All activities of the Committee will be conducted in an open, transparent, and accessible manner. The Committee shall terminate on September 7, 2023, or earlier upon the completion of its work as determined by the FCC Chair, unless its charter is renewed prior to the termination date.

The Committee will meet approximately three to five times per year, with the possibility of more frequent meetings by informal subcommittees. The meetings of the Committee will be described in a Public Notice issued and published in the Federal Register at least fifteen (15) days prior to the first meeting date. In addition, as needed, working groups or subcommittees (ad hoc or steering) will be established to facilitate the Committee's work between meetings of the full Committee. All meetings, including those of working groups and subcommittees, will be fully accessible to individuals with disabilities.

Federal Communications Commission.
Marlene Dortch,
Secretary.

[FR Doc. 2021-16510 Filed 8-2-21; 8:45 am]

BILLING CODE 6712-01-P